DEPARTMENT OF TRANSPORTATION

National Highway Traffic Safety Administration

[Docket No. NHTSA-2025-0325]

NHTSA Safety Research Portfolio Public Meeting: Fall 2025 and Public Workshop on Automated Driving Systems

AGENCY: National Highway Traffic Safety Administration (NHTSA), Department of Transportation (DOT).

ACTION: Notice of a public meeting.

SUMMARY: The National Highway Traffic Safety Administration (NHTSA) will hold a public meeting on October 21-22, 2025, jointly organized by the NHTSA's Vehicle Safety Research and Behavioral Safety Research offices. The event will provide updates and insights into ongoing activities across NHTSA's research programs. The meeting will be held in-person and will feature panel presentations by representatives from both research offices. Each panel will conclude with an opportunity for the audience to ask technical questions related to the presented materials. Visual slides used in presentations will be made available in the public docket following the public meeting. The event will not be live streamed; however, panel presentations will be recorded and made available on the NHTSA website after the event. At the conclusion of the research presentations on October 22, 2025, the Agency will also host a special workshop on selected topics of interest related to Automated Driving Systems (ADS). The ADS workshop will not be livestreamed or recorded.

DATES: NHTSA will hold the Safety Research Portfolio public meeting on October 21-22, 2025. The ADS workshop will be held on October 22, 2025. Attendees must register no later than October 17, 2025. The public docket will remain open for comments for 90 days following the public meeting, until January 23, 2026.

ADDRESSES: The Research public meeting and the ADS workshop will both be held in-person at the DOT Headquarters: 1200 New Jersey Avenue SE, West Building Atrium, Washington, DC 20590.

Registration: Attendees must register at https://www.nhtsa.gov/events/nhtsa-safety-research-portfolio-public-meeting-fall-2025. Please follow the registration instructions presented on the registration site.

Comments: You may submit comments about either the public meeting or the workshop by any of the following methods:

• Federal eRulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, Washington, DC 20590-0001, between 9 a.m. and 5 p.m. ET, Monday through Friday, except Federal Holidays. To be sure someone is there to help you, please call 202-366-9826 before coming.

• Fax: 202-366-1767.

Instructions: All submissions must include the agency name and docket number. Note that all comments received will be posted without change to http://www.regulations.gov, including any personal information provided. Please see the Privacy Act discussion below.

Docket: For access to the docket go to http://www.regulations.gov at any time or to 1200 New Jersey Avenue SE, West Building, Ground Floor, Room W12-140, Washington, DC 20590 between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78), or you may visit http://www.regulations.gov/privacy.html.

Confidential Business Information: If you wish to submit any information under a claim of confidentiality, you must submit your request directly to NHTSA's Office of the Chief Counsel. Requests for confidentiality are governed by part 512. NHTSA is currently treating electronic submission as an acceptable method for submitting confidential business information to the agency under part 512. If you would like to submit a request for confidential treatment, you may email your submission to Dan Rabinovitz in the Office of the Chief Counsel at Daniel.Rabinovitz@dot.gov or you may contact him for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, appendix A. In addition, you should submit a copy, from which you have deleted the claimed confidential business information, to the Docket at the address given above.

FOR FURTHER INFORMATION CONTACT: If you have questions about the research portion of the public meeting, please contact Jennifer Oxenham at jennifer.oxenham@dot.gov or Sierra Espeland at sierra.espeland@dot.gov or 202-366-7409. If you have questions about the ADS workshop, please contact Debbie Sweet at debbie.sweet@dot.gov or 202-366-7409.

SUPPLEMENTARY INFORMATION: Each year, NHTSA executes a broad array of research programs in support of Administration, DOT, and agency priorities. The Agency's research portfolio covers a diverse range of program areas pertaining to vehicle safety, including automotive technologies that help drivers avoid crashes; ADS; vehicle cybersecurity; crashworthiness, including occupant protection and advanced crash test dummies; and behavioral safety, which includes safety countermeasures that pertain to the behavior and actions of drivers, occupants, and other road users.

This year, NHTSA is holding its Safety Research Portfolio public meeting on October 21-22. This meeting is intended to inform the public and NHTSA stakeholders about the agency's ongoing research activities in both vehicle and behavioral safety. NHTSA's technical research staff will present recently concluded projects, ongoing work, and may also highlight early-stage research activities. As time permits, there will be an opportunity for session attendees to participate in Q&A sessions following each panel. Presentations utilized during the Research public meeting will be posted to the docket (identified in the heading of this document) after the meeting. Instructions for accessing the docket are found under the ADDRESSES heading. Updates on this event will be available at https://www.nhtsa.gov/events/nhtsa-safety-research-portfolio-public-meeting-fall-2025 and NHTSA recommends checking back periodically for updates or potential schedule changes.

NHTSA seeks public comments on the information presented, as well as input on the agency's research priorities, research goals, and additional research gaps and needs the public may believe NHTSA should address.

NHTSA is also holding a special workshop in the afternoon of October 22, 2025, following the conclusion of the Research public meeting. The ADS workshop will include an overview of the Department's Automated Vehicle Framework followed by a technical working session to allow NHTSA to hear from stakeholders on a variety of ADS topics. Anyone may attend the session, and NHTSA encourages attendees to prepare to provide input on ADS operations and safety. Updates and further details on the workshop will also be available at https://www.nhtsa.gov/events/nhtsa-safety-research-portfolio-public-meeting-fall-2025.

Registration is required for anyone planning to attend either or both the public meeting and the ADS workshop. Instructions for registration are found under the ADDRESSES heading and participants will be able to register for one or both days.

NHTSA is committed to providing equal access to this event for all participants and accommodation requests may be sent to NHTSA.Communication@dot.gov by October 14, 2025.

Should it be necessary to cancel or reschedule the meeting or workshop due to an unforeseen circumstance, NHTSA will take all available measures to notify registered participants as soon as possible. The Safety Research Portfolio public meeting will not be live streamed but will be recorded, and a recording will be made available after the event. The ADS workshop will not be recorded.

Cem Hatipoglu,
Associate Administrator, Vehicle Safety Research.

[FR Doc. 2025-18220 Filed 9-18-25; 8:45 am]

BILLING CODE 4910-59-P